DEPARTMENT OF AGRICULTURE

Submission for OMB Review; Comment Request

February 19, 2021.

The Department of Agriculture will submit the following information collection requirement(s) to OMB for review and clearance under the Paperwork Reduction Act of 1995, Public Law 104-13 on or after the date of publication of this notice. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by March 26, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Regulations and Related Reporting and Recording Requirements—FTPP, Packers and Stockyards Division.

OMB Control Number: 0580-0015.

Summary of Collection: The Agricultural Marketing Service (AMS) administers the provisions of the Packers and Stockyards Act of 1921 (Act), as amended and supplemented (7 U.S.C. 181-229c). The Act is designed to protect the financial interests of livestock and poultry producers engaged in commerce of livestock and live poultry sold for slaughter. It also protects members of the livestock and poultry marketing, processing, and merchandising industries from unfair, unjustly discriminatory, deceptive, or anti-competitive practices in the livestock, meat, and poultry industries. AMS will collect information using several forms.

Need and Use of the Information: AMS requires regulated entities in the livestock, meat packing, and poultry industries to keep records, submit information to AMS, and provide information to third parties. AMS will collect information to monitor and examine financial, competitive and trade practices in the livestock, meatpacking, and poultry industries. Also, the information will help assure that the regulated entities do not engage in unfair, unjustly discriminatory, or deceptive trade practices or anti-competitive behavior.

Description of Respondents: Business or other for-profit.

Number of Respondents: 15,371.

Frequency of Responses: Recordkeeping; Third party disclosure; Reporting: On occasion; Semi-annually; Annually.

Total Burden Hours: 26,137.

Ruth Brown,
Departmental Information Collection Clearance Officer.

[FR Doc. 2021-03829 Filed 2-23-21; 8:45 am]

BILLING CODE 3410-02-P